DEPARTMENT OF LABOR

Employment and Training Administration

[TA-W-41,635]

T & J Personal Services, Clearfield, PA; Notice of Termination of Investigation

Pursuant to Section 221 of the Trade Act of 1974, an investigation was initiated on June 10, 2002, in response to a petition filed by a company official on behalf of workers at T & J Personal Services, Clearfield, Pennsylvania.

The petitioner submitting the petition has requested that the petition be withdrawn. Consequently, further investigation in this case would serve no purpose, and the investigation has been terminated.

Signed in Washington, DC this 28th day of August 2002.
Richard Church,
Certifying Officer, Division of Trade Adjustment Assistance.

[FR Doc. 02-22967 Filed 9-9-02; 8:45 am]

BILLING CODE 4510-30-P